DEPARTMENT OF COMMERCE

International Trade Administration

[A-570-855]

Certain Non-Frozen Apple Juice Concentrate from the People's Republic of China: Initiation of Antidumping Duty New Shipper Review

AGENCY: Import Administration, International Trade Administration, Department of Commerce.

DATES: Effective Date: February 4, 2010.

SUMMARY: The Department of Commerce (“Department”) has determined that a request for a new shipper review (“NSR”) of the antidumping duty order on certain non-frozen apple juice concentrate (“apple juice”) from the People's Republic of China (“PRC”), received on December 15, 2009, meets the statutory and regulatory requirements for initiation. The period of review (“POR”) for this NSR is June 1, 2009, through January 20, 2010. In this instance, LXFI's sale of subject merchandise was made during the POR specified by the Department's regulations but the shipment entered within fifty-one days after the end of that POR. The Department finds that extending the POR to capture this entry would not prevent the completion of the review within the time limits set by the Department's regulations. Therefore, the Department has extended the POR for the new shipper review of LXFI by 51 days. See “Memorandum to the File through Alex Villanueva, Program Manager, New Shipper Review: Certain Non-Frozen Apple Juice Concentrate from the People's Republic of China (A-570-855), Placing CBP data on the record,” dated concurrently with this notice.

FOR FURTHER INFORMATION CONTACT: Eliana Abreu, AD/CVD Operations, Office 9, Import Administration, International Trade Administration, U.S. Department of Commerce, 14th Street and Constitution Avenue, NW, Washington, DC 20230; telephone: 202-482-4849.

SUPPLEMENTARY INFORMATION:

Background

The notice announcing the antidumping duty order on apple juice from the PRC was published in the Federal Register on June 5, 2000. See Notice of Amended Final Determination of Sales at Less Than Fair Value and Antidumping Duty Order: Certain Non Frozen Apple Juice Concentrate From the People's Republic of China, 65 FR 35606 (June 5, 2000) (“Antidumping Duty Order”). On December 15, 2009, pursuant to section 751(a)(2)(B)(i) of the Tariff Act of 1930, as amended (“Act”), and 19 CFR 351.214(c), the Department received a NSR request from Lingbao Xinyuan Fruit Industry Co. (“LXFI”). LXFI's request was properly made during December 2009, which is the semi-annual anniversary of the Antidumping Duty Order. LXFI also submitted amendments to its initial NSR request on December 28, 2009. LXFI certified that it is a producer and exporter of the subject merchandise upon which the request was based. LXFI did not submit a public version, but instead adequately summarized proprietary information and provided explanations as to why certain proprietary information is not capable of summarization.

Pursuant to section 751(a)(2)(B)(i)(I) of the Act and 19 CFR 351.214(b)(2)(i), LXFI certified that it did not export subject merchandise to the United States during the period of investigation (“POI”). In addition, pursuant to section 751(a)(2)(B)(i)(II) of the Act and 19 CFR 351.214(b)(2)(iii)(A), LXFI certified that, since the initiation of the investigation, it has never been affiliated with any Chinese exporter or producer who exported subject merchandise to the United States during the POI, including those respondents not individually examined during the investigation. As required by 19 CFR 351.214(b)(2)(iii)(B), LXFI also certified that its export activities were not controlled by the central government of the PRC.

In addition to the certifications described above, pursuant to 19 CFR 351.214(b)(2)(iv), LXFI submitted documentation establishing the following: (1) the date on which LXFI first shipped subject merchandise for export to the United States and; (2) the volume of its first shipment; and (3) the date of its first sale to an unaffiliated customer in the United States.

When the sale of the subject merchandise occurs within the POR specified by the Department's regulations but the entry occurs after the POR, the specified POR may be extended unless it would be likely to prevent the completion of the review within the time limits set by the Department's regulations. See 19 CFR 351.214(f)(2)(ii). Additionally, the preamble to the Department's regulations states that both the entry and the sale should occur during the POR, and that under “appropriate” circumstances the Department has the flexibility to extend the POR. See Antidumping Duties; Countervailing Duties; Final Rule, 62 FR 27296, 27319-27320 (May 19, 1997).

For purposes of initiation, Department accepts the contract dated within the POR as evidence that LXFI had a sale to the United States during the POR. However, the Department will consider further the proper date of sale in the context of this new shipper review and whether that sale occurred during the POR.

Initiation of New Shipper Reviews

Pursuant to section 751(a)(2)(B) of the Tariff Act of 1930, as amended (the “Act”) and 19 CFR 351.214(d)(1), we find that the request submitted by LXFI meets the threshold requirements for initiation of a new shipper review for shipments of apple juice from the PRC produced and exported by LXFI. See “Memorandum to the File Through Alex Villanueva, Project Manager, New Shipper Initiation Checklist: Certain Non-Frozen Apple Juice Concentrate From the PRC (A-570-855),” dated concurrently with this notice. The POR is June 01, 2009, through November 30, 2009. See 19 CFR 351.214(g)(1)(i)(B). The Department intends to issue the preliminary results of this NSR no later than 180 days from the date of initiation, and the final results no later than 270 days from the date of initiation. See section 751(a)(2)(B)(iv) of the Act.

It is the Department's usual practice, in cases involving non-market economies, to require that a company seeking to establish eligibility for an antidumping duty rate separate from the country-wide rate provide evidence of de jure and de facto absence of government control over the company's export activities. Accordingly, we will issue questionnaires to LXFI, which will include a section requesting information with regard to LXFI's export activities for separate rates purposes. The review will proceed if the response provides sufficient indication that LXFI is not subject to either de jure or de facto government control with respect to its export of subject merchandise.

We will instruct U.S. Customs and Border Protection to allow, at the option of the importer, the posting, until the completion of the review, of a bond or security in lieu of a cash deposit for each entry of the subject merchandise from LXFI in accordance with section 751(a)(2)(B)(iii) of the Act and 19 CFR 351.214(e). Because LXFI certified that it both produced and exported the subject merchandise, the sale of which is the basis for this new shipper review request, we will apply the bonding privilege to LXFI only for subject merchandise which LXFI both produced and exported.

Interested parties requiring access to proprietary information in this NSR should submit applications for disclosure under administrative protective order in accordance with 19 CFR 351.305 and 19 CFR 351.306.

This initiation and notice are in accordance with section 751(a)(2)(B) of the Act and 19 CFR 351.214 and 19 CFR 351.221(c)(1)(i).

Dated: January 29, 2010.
John M. Andersen,
Acting Deputy Assistant Secretary for Antidumping and Countervailing Duty Operations.

[FR Doc. 2010-2417 Filed 2-3-10; 8:45 am]

BILLING CODE 3510-DS-S